DEPARTMENT OF THE INTERIOR

National Park Service

[N6574; NPS-WASO-NAGPRA-NPS0041251; PPWOCRADN0-PCU00RP14.R50000]

Notice of Intended Repatriation: U.S. Army Corps of Engineers, San Francisco District, San Francisco, CA, and University of California Riverside, Riverside, CA

AGENCY: National Park Service, Interior.

ACTION: Notice.

SUMMARY: In accordance with the Native American Graves Protection and Repatriation Act (NAGPRA), the U.S. Army Corps of Engineers, San Francisco District and the University of California, Riverside intends to repatriate certain cultural items that meet the definition of unassociated funerary objects and that have a cultural affiliation with the Indian Tribes or Native Hawaiian organizations in this notice.

DATES: Repatriation of the cultural items in this notice may occur on or after December 17, 2025.

ADDRESSES: Send additional, written requests for repatriation of the cultural items in this notice to Dr. Stephanie Bergman Sahinoglu, Cultural Resources Lead, U.S. Army Corps of Engineers, San Francisco District, 450 Golden Gate Avenue, 4th Floor, San Francisco, CA 94102, email stephanie.m.bergman@usace.army.mil and Ms. Megan Murphy, University of California, Riverside, 900 University Avenue, Riverside, CA 92517-5900, email megan.murphy@ucr.edu.

SUPPLEMENTARY INFORMATION: This notice is published as part of the National Park Service's administrative responsibilities under NAGPRA. The determinations in this notice are the sole responsibility of the U.S. Army Corps of Engineers, San Francisco District and the University of California, Riverside and additional information on the determinations in this notice, including the results of consultation, can be found in the summary or related records. The National Park Service is not responsible for the determinations in this notice.

Abstract of Information Available

A total of 33 cultural items from CA-SON-547, CA-SON-556, CA-SON-568, CA-SON-571, CA-SON-593, CA-SON-597, CA-SON-608, and Preston Lake have been requested for repatriation. The 33 unassociated funerary objects are soil and charcoal samples. All of these samples were likely removed as part of the U.S. Army Corps of Engineers (USACE) Warm Springs Dam project, but whether all were removed from USACE-controlled property is unclear. Ultimately, because the matter of control is unclear, this notice is being submitted cooperatively by the USACE San Francisco District and University of California, Riverside.

Determinations

The U.S. Army Corps of Engineers, San Francisco District and the University of California, Riverside has determined that:

• The 33 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a connection between the cultural items described in this notice and the Cloverdale Rancheria of Pomo Indians of California; Dry Creek Rancheria Band of Pomo Indians, California; and the Kashia Band of Pomo Indians of the Stewarts Point Rancheria, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after December 17, 2025. If competing requests for repatriation are received, the U.S. Army Corps of Engineers, San Francisco District and the University of California, Riverside must determine the most appropriate requestor prior to repatriation. Requests for joint repatriation of the cultural items are considered a single request and not competing requests. The U.S. Army Corps of Engineers, San Francisco District and the University of California, Riverside is responsible for sending a copy of this notice to the Indian Tribes and Native Hawaiian organizations identified in this notice and to any other consulting parties.

Authority: Native American Graves Protection and Repatriation Act, 25 U.S.C. 3004 and the implementing regulations, 43 CFR 10.9.

Dated: September 25, 2025.
Melanie O'Brien,
Manager, National NAGPRA Program.

[FR Doc. 2025-19968 Filed 11-14-25; 8:45 am]

BILLING CODE 4312-52-P